DEPARTMENT OF ENERGY

Federal Energy Regulatory Commission

[Docket Nos. ER02-146-000, ER02-147-000, ER02-148-000, ER02-149-000]

CalPeak Power—Panoche LLC et. al.; Notice of Filing

October 25, 2001.

Take notice that on October 22, 2001, CalPeak Power—Panoche LLC, CalPeak Power—Vaca Dixon LLC, CalPeak Power—Enterprise LLC, and CalPeak Power—Border LLC (the CalPeak Entities) tendered for filing each of the CalPeak Entities' respective long-term power purchase agreements with the California Department of Water Resources (CDWR).

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before November 12, 2001. Protests will be considered by the Commission to determine the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-27333 Filed 10-30-01; 8:45 am]

BILLING CODE 6717-01-P